FEDERAL COMMUNICATIONS COMMISSION

[OMB 3060-1297; FR ID 75645]

Information Collection Being Reviewed by the Federal Communications Commission

AGENCY: Federal Communications Commission.

ACTION: Notice and request for comments.

SUMMARY: As part of its continuing effort to reduce paperwork burdens, and as required by the Paperwork Reduction Act (PRA) of 1995, the Federal Communications Commission (FCC or the Commission) invites the general public and other Federal agencies to take this opportunity to comment on the following information collection. Comments are requested concerning: Whether the proposed collection of information is necessary for the proper performance of the functions of the Commission, including whether the information shall have practical utility; the accuracy of the Commission's burden estimate; ways to enhance the quality, utility, and clarity of the information collected; ways to minimize the burden of the collection of information on the respondents, including the use of automated collection techniques or other forms of information technology; and ways to further reduce the information collection burden on small business concerns with fewer than 25 employees.

The FCC may not conduct or sponsor a collection of information unless it displays a currently valid control number. No person shall be subject to any penalty for failing to comply with a collection of information subject to the PRA that does not display a valid Office of Management and Budget (OMB) control number.

DATES: Written PRA comments should be submitted on or before May 13, 2022. If you anticipate that you will be submitting comments, but find it difficult to do so within the period of time allowed by this notice, you should advise the contact listed below as soon as possible.

ADDRESSES: Direct all PRA comments to Nicole Ongele, FCC, via email PRA@fcc.gov and to nicole.ongele@fcc.gov.

FOR FURTHER INFORMATION CONTACT: For additional information about the information collection, contact Nicole Ongele, (202) 418-2991.

SUPPLEMENTARY INFORMATION: OMB Control Number: 3060-1297.

Title: COVID-19 Vaccine Attestation Form for Non-paid Employees.

Form No.: FCC Form 5644.

Type of Review: Revision of a currently approved collection.

Respondents: Individuals or households.

Number of Respondents and Responses: 140 respondents and 140 responses.

Estimated Time per Response: 0.25 hours.

Frequency of Response: One-time reporting requirement.

Obligation to Respond: Mandatory. The statutory authority to collect this information derives from General Duty Clause; Section 5(a)(1) of the Occupational Safety and Health (OSH) Act of 1970 (29 U.S.C. 654); Executive Order 12196, Occupational safety and health programs for Federal employees (Feb. 26, 1980); Executive Order 13991, Protecting the Federal Workforce and Requiring Mask-Wearing; Executive Order 14043, Requiring Coronavirus Disease 2019 Vaccination for Federal Employees; OMB Memorandum M 21-15, COVID-19 Safe Federal Workplace: Agency Model Safety Principles (Jan. 24, 2021), as amended; and the National Defense Authorization Act For Fiscal Year 2017 (5 U.S.C. 6329c(b)). Information will be collected and maintained in accordance with the Rehabilitation Act of 1973 (29 U.S.C. 791 et seq.).

Total Annual Burden: 35 hours.

Total Annual Cost: No Cost.

Privacy Act Impact Assessment: Yes. Health information collected about FCC staff and visitors to a FCC facility, which may include immunization and vaccination information, is covered by the FCC's Systems of Records Notice (SORN) OMD-33, Ensuring Workplace Health and Safety in Response to a Public Health Emergency, posted at https://www.fcc.gov/sites/default/files/sor-fcc-omd-33.pdf. This system is part of the FCC's ServiceNow platform, which has a Privacy Impact Assessment (PIA) posted at https://www.fcc.gov/sites/default/files/servicenow-pia-10292019.pdf.

Nature and Extent of Confidentiality: As Privacy Act-protected records, these records are kept confidential and will not be disclosed except under applicable Privacy Act exceptions, including the routine uses identified in the FCC/OMD-3 SORN.

Needs and Uses: On September 9, 2021, President Biden issued Executive Order 14043 to protect the health and safety of the Federal workforce and to promote the efficiency of the civil service. Pursuant to the Executive Order and implementing guidance, the Federal Communications Commission (FCC) informed its workforce that, other than in limited circumstances where a reasonable accommodation is legally required, all employees needed to be fully vaccinated against COVID-19 by November 22, 2021, regardless of where they are working. To ensure compliance with this mandate, the FCC established a requirement for employees to complete and submit a form attesting to their current vaccination status. Although the vaccination requirement issued pursuant to E.O. 14043 is currently the subject of a nationwide injunction, the FCC will continue to develop and implement health and safety protocols to ensure and maintain the safety of all occupants during standard operations and public health emergencies or similar health and safety incidents, such as the current pandemic, and will continue to request that workers report on their vaccination status. For some special categories of individuals who perform (or will perform) work for the agency but are not considered employees, the FCC is required to obtain OMB approval prior to collecting such information. These include incoming employees, unpaid interns, unpaid legal fellows, individuals performing work for the FCC pursuant to an Intergovernmental Personnel Agreement, participants in advisory committees, and possibly other similar classes of individuals who are not on the FCC payroll but are performing work for the agency.

Federal Communications Commission.
Katura Jackson,
Federal Register Liaison Officer.

[FR Doc. 2022-05247 Filed 3-11-22; 8:45 am]

BILLING CODE 6712-01-P